DEPARTMENT OF COMMERCE

Foreign-Trade Zones Board

[B-53-2020]

Foreign-Trade Zone (FTZ) 82—Mobile, Alabama Authorization of Production Activity; Aker Solutions, Inc. (Subsea Oil and Gas Systems), Mobile, Alabama

On August 7, 2020, Aker Solutions, Inc., submitted a notification of proposed production activity to the FTZ Board for its facility within FTZ 82, in Mobile, Alabama.

The notification was processed in accordance with the regulations of the FTZ Board (15 CFR part 400), including notice in the Federal Register inviting public comment (85 FR 50802, August 18, 2020). On December 7, 2020, the applicant was notified of the FTZ Board's decision that no further review of the activity is warranted at this time. The production activity described in the notification was authorized, subject to the FTZ Act and the FTZ Board's regulations, including Section 400.14.

Dated: December 7, 2020.
Andrew McGilvray,
Executive Secretary.

[FR Doc. 2020-27139 Filed 12-9-20; 8:45 am]

BILLING CODE 3510-DS-P